DEPARTMENT OF TRANSPORTATION

Federal Railroad Administration

[Docket Number FRA-2017-0109]

Petition for Extension of Waiver of Compliance

Under part 211 of title 49 Code of Federal Regulations (CFR), this document provides the public notice that on October 6, 2022, and November 29, 2022,¹ The Port Authority Trans-Hudson Corporation (PATH) petitioned the Federal Railroad Administration (FRA) for an extension of a waiver of compliance from certain provisions of the Federal railroad safety regulations contained at 49 CFR part 229, Railroad Locomotive Safety Standards. The relevant FRA Docket Number is FRA-2017-0109.²

¹ PATH submitted supplemental information to its October 6, 2022, petition, by letter dated November 29, 2022.

² Additional relief applicable to this equipment (pertaining to requirements for each lead locomotive to be equipped with a pilot, snowplow, or end plate across both rails) may be found in Docket Number FRA-2008-0135.

Specifically, PATH seeks to extend its waiver of compliance from a portion of 49 CFR 229.123, Emergency roof access, which requires passenger cars ordered on or after April 1, 2009, or placed in service for the first time on or after April 1, 2011, to have two emergency roof access locations. Alternatively, PATH requests continued approval to install a single emergency roof access location on any newly ordered passenger cars. In support of its request, PATH states that its PA-5 vehicles are of a “unique nature” and PATH's operations are “more representative of an inter-urban rapid transit system.” The supplemental information further adds that the vehicles have “multiple emergency exits on each side . . . that can be opened by the passengers or first responders in the event of an emergency.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by March 20, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2023-00687 Filed 1-13-23; 8:45 am]

BILLING CODE 4910-06-P